DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of Intent to Evaluate and Notice of Availability of Final Findings.

SUMMARY: The NOAA Office of Ocean and Coastal Resource Management (OCRM) announces its intent to evaluate the performance of the Wells (Maine) National Estuarine Research Reserve, the Narragansett Bay (Rhode Island) National Estuarine Research Reserve, and the Wisconsin Coastal Management Program.

The Coastal Zone Management Program evaluation will be conducted pursuant to section 312 of the Coastal Zone Management Act of 1972, as amended (CZMA) and regulations at 15 CFR Part 923, Subpart L. The National Estuarine Research Reserve evaluations will be conducted pursuant to sections 312 and 315 of the CZMA and regulations at 15 CFR Part 921, Subpart E and Part 923, Subpart L. The CZMA requires continuing review of the performance of states with respect to coastal program implementation. Evaluation of Coastal Management Programs and National Estuarine Research Reserves requires findings concerning the extent to which a state has met the national objectives, adhered to its Coastal Management Program document or Reserve final management plan approved by the Secretary of Commerce, and adhered to the terms of financial assistance awards funded under the CZMA.

Each evaluation will include a site visit, consideration of public comments, and consultations with interested Federal, state, and local agencies and members of the public. A public meeting will be held as part of the site visit. Notice is hereby given of the dates of the site visits for the listed evaluations, and the dates, local times, and locations of the public meetings during the site visits.

Dates and Times: The Wells (Maine) National Estuarine Research Reserve evaluation site visit will be held May 13-15, 2008. One public meeting will be held during the week. The public meeting will be held on Wednesday, May 14, 2008, at 5 p.m. at the Mather Auditorium, Wells National Estuarine Research Reserve at Laudholm Farm, 342 Laudholm Farm Road, Wells, Maine.

The Narragansett Bay (Rhode Island) National Estuarine Research Reserve evaluation site visit will be held May 20-23, 2008. One public meeting will be held during the week. The public meeting will be held on Wednesday, May 21, 2008, at 12 noon at the Hope Brown Center, Farnham Farm, Prudence Island, Rhode Island. ONLY in the event the ferry to Prudence Island cannot operate, the public meeting will be held on Wednesday, May 21, 2008, at 12 noon at the Foundry, Room 280, 235 Promenade Street, Providence, Rhode Island.

The Wisconsin Coastal Management Program evaluation site visit will be held June 16-20, 2008. One public meeting will be held during the week. The public meeting will be held on Wednesday, June 18, 2008, at 6 p.m. at The Crossroads at Big Creek, 2041 Michigan Street, Sturgeon Bay, Wisconsin.

ADDRESSES: Copies of states' most recent performance reports, as well as OCRM's evaluation notification and supplemental information request letters to the states, are available upon request from OCRM. Written comments from interested parties regarding these Programs are encouraged and will be accepted until 15 days after the public meeting held for a Program. Please direct written comments to Kate Barba, Chief, National Policy and Evaluation Division, Office of Ocean and Coastal Resource Management, NOS/NOAA, 1305 East-West Highway, 10th Floor, N/ORM7, Silver Spring, Maryland 20910. When the evaluation is completed, OCRM will place a notice in the Federal Register announcing the availability of the Final Evaluation Findings.

SUPPLEMENTARY INFORMATION: Notice is hereby given of the availability of the final evaluation findings for the South Slough (Oregon) National Estuarine Research Reserve (South Slough NERR) and the Maryland and New York Coastal Management Programs (CMPs). Sections 312 and 315 of the Coastal Zone Management Act of 1972 (CZMA), as amended, require a continuing review of the performance of coastal states with respect to approval of CMPs and the operation and management of NERRs.

The states of Maryland and New York were found to be implementing and enforcing their federally approved coastal management programs, addressing the national coastal management objectives identified in CZMA Section 303(2)(A)-(K), and adhering to the programmatic terms of their financial assistance awards. The South Slough NERR was found to be adhering to programmatic requirements of the NERR System.

Copies of these final evaluation findings may be obtained upon written request from: Kate Barba, Chief, National Policy and Evaluation Division, Office of Ocean and Coastal Resource Management, NOS/NOAA, 1305 East-West Highway, 10th Floor, N/ORM7, Silver Spring, Maryland 20910, or Kate.Barba@noaa.gov.

FOR FURTHER INFORMATION CONTACT: Kate Barba, Chief, National Policy and Evaluation Division, Office of Ocean and Coastal Resource Management, NOS/NOAA, 1305 East-West Highway, 10th Floor, N/ORM7, Silver Spring, Maryland 20910, (301) 563-1182.

Dated: March 20, 2008.
David M. Kennedy,
Director, Office of Ocean and Coastal Resource Management, National Ocean Service, National Oceanic and Atmospheric Administration.

Federal Domestic Assistance

Catalog 11.419. Coastal Zone Management Program Administration.

[FR Doc. E8-6696 Filed 3-31-08; 8:45 am]

BILLING CODE 3510-08-P